NUCLEAR REGULATORY COMMISSION

[Docket No. 40-1162]

Notice of Availability of Environmental Assessment and Finding of No Significant Impact for License Amendment for Western Nuclear, Inc., Jeffrey City, WY

AGENCY: Nuclear Regulatory Commission.

ACTION: Notice of availability.

FOR FURTHER INFORMATION CONTACT: Stephen J. Cohen, Project Manager, Fuel Cycle Facilities Branch, Division of Fuel Cycle Safety and Safeguards, Office of Nuclear Material Safety and Safeguards, U.S. Nuclear Regulatory Commission, Washington, DC 20555. Telephone: (301) 415-7182; fax number: (301) 415-5955; e-mail: sjc7@nrc.gov.

SUPPLEMENTARY INFORMATION:

I. Introduction

The U.S. Nuclear Regulatory Commission (NRC) plans to issue a license amendment to Source Materials License No. SUA-56 held by Western Nuclear, Inc. (the Licensee), to authorize the establishment of alternate concentration limits (ACLs) at its Split Rock uranium mill tailings site in Jeffrey City, Wyoming. The NRC has prepared an Environmental Assessment (EA) in support of the proposed action in accordance with the requirements of 10 CFR part 51. Based on the EA, the NRC has concluded that a Finding of No Significant Impact is appropriate. Final action on the Licensee's amendment request will be taken following publication of this notice. The NRC will issue a technical evaluation report addressing the safety aspects of establishing ACLs at the Licensee's facility.

II. EA Summary

The purpose of the proposed amendment is to authorize the establishment of ACLs instead of ground water protection standards for six constituents at the Licensee's Jeffrey City, Wyoming, facility. Specifically, this amendment will establish ACLs for ammonia, manganese, molybdenum, nitrate, radium-226 and -228, and natural uranium. This amendment will also require the Licensee to establish institutional controls on all properties within the long-term surveillance boundary to preclude domestic ground water use. On October 29, 1999, the Licensee requested that NRC approve the proposed amendment.

The staff has prepared the EA in support of the proposed license amendment. The staff considered impacts to ground water, surface water, land use, ecology, socioeconomic conditions, and historical and cultural resources. Impacts to ground water are mitigated by the use of institutional controls that prevent human consumption of contaminated ground water within the long-term surveillance boundary. However, agricultural and livestock uses have been preserved within the long-term surveillance boundary. A surface water and ground water monitoring program has been established to track ground water contamination, and trigger levels for surface water and ground water have been established, the exceedance of which would require a response from the Licensee.

III. Finding of No Significant Impact

On the basis of the EA, the NRC has concluded that there are no significant environmental impacts from the proposed amendment and has determined not to prepare an environmental impact statement.

IV. Further Information

Documents related to this action, including the application for amendment, the EA, and other supporting documentation, are available electronically at the NRC's Electronic Reading Room at http://www.nrc.gov/reading-rm/adams.html. From this site, you can access the NRC's Agencywide Document Access and Management System (ADAMS), which provides text and image files of NRC's public documents. The ADAMS accession numbers for the documents related to this notice are:

Document | ADAMS Accession No.
Ground Water Characterization and Evaluation | ML003672396, ML003672400
Baseline Risk Assessment, Appendix I to Site Closure Plan | ML003672619
Supplement to October 29, 1999, Split Rock Site Closure Report | ML010380246
WNI Response to NRC Request of September 6, 2001, for Additional Information on Site Closure Plan for the Split Rock, Wyoming, Site | ML021710273
Supplemental Data Collection, Program Trip Report | ML021710422
WNI Response to NRC Request of September 6, 2001, for Additional Information on Site Closure Plan for the Split Rock, Wyoming, Site | ML022110059
Supplemental Ground Water Modeling Report | ML030760336
Letter to Robert A. Nelson Regarding Risk Assessment of Ground Water for Agricultural Uses | ML041490156
Response to Request for Additional Information | ML050690064
Environmental Assessment for Amendment to Source Materials License SUA-56, Ground Water Alternate Concentration Limits | ML062130316

If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated at Rockville, Maryland, this 30th day of August 2006.
For the Nuclear Regulatory Commission.
Stephen J. Cohen,
Project Manager, Fuel Cycle Facilities Branch, Division of Fuel Cycle Safety and Safeguards, Office of Nuclear Material Safety and Safeguards.

[FR Doc. E6-14706 Filed 9-5-06; 8:45 am]

BILLING CODE 7590-01-P